DEPARTMENT OF STATE

[Public Notice 3549]

Culturally Significant Objects Imported for Exhibition; Determinations: “Gauguin's Nirvana: Portrait of Meyer de Haan”

AGENCY: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “Gauguin's Nirvana: Portrait of Meyer de Haan” imported from abroad for the temporary exhibition without profit within the United States, are of cultural significance. These objects are imported pursuant to loan agreements with the foreign lenders. I also determine that the exhibition or display of the exhibit objects at the Wadsworth Atheneum Museum of Art, Hartford, CT from on or about January 26, 2001, through on or about April 29, 2001, is in the national interest. Public Notice of these Determinations is ordered to be published in the Federal Register.

FOR FURTHER INFORMATION CONTACT: For further information, including a list of exhibit objects, contact Jacqueline Caldwell, Attorney-Adviser, Office of the Legal Adviser, U.S. Department of State (telephone: 202/619-6982). The address is U.S. Department of State, SA-44, 301 4th Street, SW., Room 700, Washington, DC 20547-0001.

Dated: January 10, 2001.
William B. Bader,
Assistant Secretary for Educational and Cultural Affairs, Department of State.

[FR Doc. 01-1515 Filed 1-17-01; 8:45 am]

BILLING CODE 4710-08-P